NUCLEAR REGULATORY COMMISSION

10 CFR Parts 71 and 73

RIN 3150-AG41

Advance Notification to Native American Tribes of Transportation of Certain Types of Nuclear Waste

AGENCY: Nuclear Regulatory Commission.

ACTION: Advance notice of proposed rulemaking: Reopening of comment period.

SUMMARY: The Nuclear Regulatory Commission (NRC) published for public comment an advanced notice of proposed rulemaking (ANPR) on December 21, 1999 (64 FR 71331), that would require licensees to notify Federally recognized Native American Tribes of shipments of certain types of high-level radioactive waste, including spent nuclear fuel, before the shipments are transported to or across the boundary of Tribal lands. In a letter to the Secretary of the Commission, dated March 1, 2000, the National Congress of American Indians (NCAI) requested a 90-day extension of the comment period. The comment period for the ANPR expired on March 22, 2000. In view of the importance of the issues described in the ANPR and the information needed to resolve these issues, the amount of additional time that the NCAI requested to provide comments on behalf of its 210 constituent Tribal governments is reasonable. The NRC is reopening the comment period for 90 days. The comment period will expire on July 5, 2000.

DATES: The comment period has been reopened and will expire on July 5, 2000. Comments received after this date will be considered if it is practical to do so, but the Commission is able to assure consideration only for comments received on or before this date.

ADDRESSES: Mail comments to: The Secretary, U.S. Nuclear Regulatory Commission, Washington, DC 20555-0001, Attention: Rulemakings and Adjudications Staff.

Hand-deliver comments to: 11555 Rockville Pike, Rockville, Maryland, between 7:30 am and 4:15 pm on Federal workdays.

You may also provide comments via the NRC's interactive rulemaking website (http://ruleforum.llnl.gov). This site provides the availability to upload comments as files (any format), if your web browser supports that function. For information about the interactive rulemaking site, contact Ms. Carol Gallagher (301) 415-5905; e-mail CAG@nrc.gov.

Certain documents related to this rulemaking, including comments received, may be examined at the NRC Public Document Room, 2120 L Street NW (Lower Level), Washington, DC. These same documents also may be viewed and downloaded electronically via the rulemaking website.

FOR FURTHER INFORMATION CONTACT:

Stephanie P. Bush-Goddard, Ph.D., Office of Nuclear Material Safety and Safeguards, U.S. Nuclear Regulatory Commission, Washington, DC 20555-0001, telephone (301) 415-6257, e-mail SPB@nrc.gov; or

Dorothy M. Gauch, Office of the General Counsel, U.S. Nuclear Regulatory Commission, Washington, DC 20555-0001, telephone (301) 415-1630, e-mail DMG5@nrc.gov.

Dated at Rockville, Maryland, this 31st day of March 2000.
For the Nuclear Regulatory Commission.
Annette L. Vietti-Cook,
Secretary of the Commission.

[FR Doc. 00-8431 Filed 4-5-00; 8:45 am]

BILLING CODE 7590-01-P